DEPARTMENT OF THE INTERIOR

Bureau of Land Management

[WO-300-1310-PP-OSHL]

Notice of Intent To Prepare a Programmatic Environmental Impact Statement (EIS) and Possible Land Use Plan Amendments for Allocation of Oil Shale and Tar Sands Resources on Lands Administered by the Bureau of Land Management in Colorado, Utah, and Wyoming

AGENCY: Bureau of Land Management, Interior.

ACTION: Notice of intent.

SUMMARY: In compliance with the National Environmental Policy Act of 1969 as amended (NEPA), and the Federal Land Policy and Management Act of 1976, as amended (FLPMA), the Bureau of Land Management (BLM) intends to prepare a Programmatic EIS for Allocation of Oil Shale and Tar Sands Resources on Lands Administered by the BLM in Colorado, Utah, and Wyoming, and by this notice is announcing the beginning of the scoping process to solicit public comments and identify issues.

DATES: This notice initiates the public scoping process for the EIS and possible plan amendments. Comments on issues may be submitted in writing until May 16, 2011. The BLM invites comments on potential resource issues that should be discussed in the NEPA analysis, including input on issues pertaining to historic and cultural resources within the areas proposed for land use plan amendment. Such information will inform consultation activities the BLM will conduct in furtherance of the United States' government-to-government relationship with Indian Tribes. The BLM will hold public scoping meetings at the following locations: Salt Lake City, Utah; Price, Utah; Vernal, Utah; Rock Springs, Wyoming; Rifle, Colorado; Denver, Colorado; and Cheyenne, Wyoming. The BLM will announce exact times and locations for all public meetings at least 15 days in advance through local media, newsletters, and the project Web site at: http://blm.gov/st5c. The minutes and list of attendees for each scoping meeting will be available to the public and may be supplemented after the meeting should participants wish to clarify their views. We will provide additional opportunities for public participation upon publication of the Draft Programmatic EIS. The first public meeting will be held in Salt Lake City, Utah on April 26, 2011.

ADDRESSES: You may submit comments by the following methods:

• Web site: http://blm.gov/st5c.

• Mail: BLM Oil Shale and Tar Sands Resources Leasing Programmatic EIS Scoping, Argonne National Laboratory, EVS, 240, 9700 S. Cass Avenue, Argonne, Illinois 60439.

FOR FURTHER INFORMATION CONTACT: For further information and/or to have your name added to our mailing list, contact Sherri Thompson, Project Manager, Bureau of Land Management, Colorado State Office, telephone: (303) 239-3758, address: 2850 Youngfield Street, Lakewood, Colorado 80215, or Dan Haas, (for cultural issues), Cultural Resources Lead, Bureau of Land Management, Colorado State Office, telephone (303) 239-3647, or visit the Oil Shale and Tar Sands Resources Programmatic EIS Web site at: http://blm.gov/st5c. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In 2008, the BLM amended eight land use plans in Colorado, Utah, and Wyoming to make public lands available for potential leasing and development of oil shale resources, and two other land use plans to expand the acreage available for potential tar sands leasing in Utah, where these resources are located. These 2008 amendments, supported by the preparation of a Programmatic EIS required under Section 369(d)(1) of the Energy Policy Act of 2005, made approximately 2,000,000 acres available for potential development of oil shale. The 2008 Programmatic EIS and Record of Decision (ROD) amending the land use plans are available at http://ostseis.anl.gov, and include maps and more specific information about the geographic area studied in 2008. Information specific to the individual RMPs amended in 2008 can be found at the individual BLM Field Office Web site, which can be accessed through http://www.blm.gov.

The BLM has decided to take a fresh look at the land use plan allocation decisions made in the 2008 ROD associated with the Programmatic EIS, in order to consider which lands should be open to future leasing of oil shale and tar sands resources. The planning area for the oil shale resource is the Piceance and Washakie Basins in Colorado, the Uintah Basin in Utah, and the Green River and Washakie Basins in Wyoming. For the tar sands resources, the planning area is certain sedimentary provinces in the Colorado Plateau in Utah. As there are no economically viable ways yet known to extract and process oil shale for commercial purposes, and Utah tar sands deposits are not at present a proven commercially-viable energy source, the BLM, through its planning process, intends to take a hard look at whether it is appropriate for approximately 2,000,000 acres to remain available for potential development of oil shale, and approximately 431,224 acres of public land to remain available for potential development of tar sands.

The Programmatic EIS will analyze amending the following Resource Management Plans (RMP): The White River RMP, the Grand Junction RMP, the Glenwood Springs RMP, the Vernal RMP, the Price RMP, the Richfield RMP, the Monticello RMP, the Kemmerer RMP, the Rawlins RMP, and the Green River RMP to identify areas that may be excluded from any future oil shale and tar sands resources leasing in these three states. The BLM will use the NEPA scoping process in part to meet the public participation requirements of Section 106 of the National Historic Preservation Act (NHPA), and information gathered about historic and cultural resources will assist the BLM in meeting the requirements of NHPA Section 106.

This new planning initiative will also provide the BLM an opportunity to consider what public lands might be best suited for this kind of development in light of information not available in 2008. For example, the U.S. Geological Survey (USGS) has recently completed an in-place assessment of the oil shale and nahcolite resources of the Green River Formation in the Piceance Basin of western Colorado (August 2010) and an assessment of in-place oil in oil shales of the Eocene Green River Formation of the Uinta Basin of eastern Utah and western Colorado (August 2010). The USGS also anticipates release of an assessment of the Green River Formation in Wyoming later this year. On March 23, 2010, the U.S. Fish and Wildlife Service published a Notice of Petition Findings Endangered Threatened Wildlife and Plants; 12-Month Findings to List the Greater Sage-Grouse as Threatened or Endangered in the Federal Register (75 FR 13910). Sage grouse (which occurs on some lands allocated as open to oil shale and tar sands leasing in the 2008 land use plan decisions) range-wide was warranted for listing under the applicable provisions of the Endangered Species Act, but that such listing was precluded by higher priority listing actions.

The BLM has developed a preliminary purpose and need for the proposed planning action. It is presented here to inform the public scoping process and to facilitate collaboration with interested parties to identify the planning issues important to local, regional, and National needs and concerns that will assist the BLM in formulating alternatives analyzed in the Programmatic EIS. The preliminary purpose and need statement for this proposed planning action is to reassess the appropriate mix of allowable uses with respect to oil shale and tar sands leasing and potential development.

The BLM will decide whether any changes should be made to the existing land use allocation decisions, in light of the nascent character of technology for developing oil shale and tar sands resources, and any relevant new information. Specifically, the BLM will consider amending the applicable resource management plans to specify whether any areas in Colorado, Utah, and Wyoming currently open for future leasing and development of oil shale or tar sands should not be made available for such leasing and development.

The Programmatic EIS will analyze the no action alternative, which would leave the current allocation decisions from the 2008 ROD in place. It will also analyze an alternative that would remove all of the following kinds of areas from oil shale and tar sands leasing, and one or more alternatives that would remove some of the following kinds of areas from oil shale and tar sands leasing:

(1) All areas that the BLM has identified or may identify as a result of inventories conducted during this planning process, as lands containing wilderness characteristics (preliminary information may be found in chapters 2 and 3 of the 2008 Programmatic EIS, at http://ostseis.anl.gov);

(2) The whole of the Adobe Town “Very Rare or Uncommon” area, as designated by the Wyoming Environment Quality Council on April 10, 2008 (http://deq.state.wy.us/eqc/orders/Rare%20or%20Closed%20Cases/UandI_Final_for_DEQ.pdf);

(3) Core or priority sage grouse habitat, as defined by such guidance as the BLM or the Department of the Interior may issue;

(4) All areas of critical environmental concern (ACEC) located within the areas analyzed in the September 2008 Oil Shale and Tar Sands Resources Leasing Final EIS (2008 OSTS Programmatic EIS, chapter 2, with further discussion in chapters 3 and 4, at http://ostseis.anl.gov); and

(5) All areas identified as excluded from commercial oil shale and tar sands leasing in Alternative C of the September 2008 OSTS Programmatic EIS (see http://ostseis.anl.gov).

Lands that the BLM identifies as having wilderness characteristics will be considered during this planning initiative, as described above, and consistent with Secretarial Order No. 3310, dated Dec. 22, 2010, and BLM Manuals 6301 and 6302. Because this is a targeted plan amendment addressing only the management of oil shale and tar sands resources, this planning initiative will not consider designating Wild Lands. Future leasing of lands determined by the BLM to have wilderness characteristics, if compatible with the allocation decisions stemming from this initiative, will subsequently be assessed in accordance with BLM Manual 6303, as appropriate (i.e., where the BLM has not determined, consistent with BLM Manual 6302, whether the lands with wilderness characteristics at issue should be receive a wild lands designation, BLM Manual 6303 will apply).

This planning initiative addresses the allocation of BLM-administered lands as closed or open to the potential leasing and development of oil shale and tar sands resources, but, as in the oil shale and tar sands planning process completed in 2008, will not disturb other management decisions contained in the RMPs governing the areas to be included in the study area. Preliminary issues and management concerns have been identified by BLM personnel, other agencies, and in meetings with individuals and user groups. They represent the BLM's knowledge to date regarding the issues and concerns with current land management. The public is encouraged to help refine these issues during the scoping phase, as well as identify additional issues relevant to the management of oil shale and tar sands resources in these areas that should be considered in the alternatives referenced, or any other alternative(s) the BLM may develop for consideration in this planning process.

In addition, the BLM anticipates including the mitigation measures developed during the previous oil shale and tar sands planning initiative completed in 2008, and may develop additional mitigation measures. These measures may be applied, if appropriate, at the discretion of the decision maker, at the time these resources are leased and/or developed.

This Notice also serves as notification of the planning criteria that the BLM is preliminarily considering as part of this planning initiative. Planning criteria are the standards, rules, and other factors used in formulating judgments about data collection, analysis, and decision making associated with development of the planning process and preparation of the Programmatic EIS. These criteria establish parameters and help focus the planning process and preparation of the Programmatic EIS. We welcome public comment on the following preliminary planning criteria:

(1) The Programmatic EIS and plan amendments will be completed in compliance with the FLPMA and all other applicable laws;

(2) The BLM will work collaboratively with the States of Colorado, Utah, and Wyoming, Indian Tribal governments, county and municipal governments, Federal agencies, and all other interested groups, agencies and individuals. Public participation will be encouraged throughout the process;

(3) The proposed plan amendments analyzed in the Programmatic EIS would amend the appropriate individual land use plans specifically to address allocation of BLM-administered lands as open or closed to leasing and development of oil shale and tar sands resources;

(4) Preparation of the Programmatic EIS and plan amendments will involve coordination with Indian Tribal governments and will provide strategies for the protection of recognized traditional uses;

(5) The BLM will coordinate with local, State, and Federal agencies in the planning process and development of the Programmatic EIS to strive for consistency with their existing plans and policies, to the extent practicable; and

(6) Any decisions made on the basis of the planning process and development of the Programmatic EIS will take into account valid existing rights.

The BLM will use an interdisciplinary approach to develop the Programmatic EIS in order to consider the variety of resource issues and concerns identified. Specialists with expertise in the following disciplines will be involved in the planning process: Minerals and geology, wildlife and fisheries, air quality, outdoor recreation, archeology, paleontology, hydrology, soils, sociology, and economics.

As noted above, the BLM will use and coordinate public participation opportunities offered consistent with the NEPA and land use planning processes to assist the agency in satisfying any public involvement requirements under Section 106 of the NHPA and 36 CFR 800.2(d)(3). Further, the BLM seeks information about historic and cultural resources within the area potentially affected by the proposed land use amendments to assist in analyzing the potential impacts in the context of both NEPA and Section 106 of the NHPA. In addition, consistent with 36 CFR 800.8, the BLM anticipates coordinating its compliance with NHPA with fulfilling its obligations under NEPA to the extent possible. The BLM also may develop a Programmatic Agreement that addresses how the agency will fulfill its obligations under Section 106 of the NHPA with respect to the development of oil shale and tar sands. To the extent possible, the BLM intends to publish a draft of such Programmatic Agreement, if developed, concurrently with publication of any Draft EIS.

Consistent with the Federal government's government-to-government relationship with Indian Tribes, BLM consultation with these Tribes will be conducted in accordance with Executive Order 13575, and Tribal concerns, including impacts on Indian trust assets, will be given due consideration. The BLM invites Federal, State, and local agencies, along with Tribes and other stakeholders that may be interested or affected by the BLM's decision on this project, to participate in the scoping process. These entities, if eligible, may request or be requested by the BLM to participate as a cooperating agency in the NEPA process or consulting party in the NHPA process.

You may submit comments on issues and planning criteria in writing to the BLM at any public scoping meeting, or by using one of the methods listed in the ADDRESSES section above. After BLM has gathered public input on issues the planning and NEPA process should address, we will categorize comments received as follows:

(1) Issues to be resolved in the plan;

(2) Issues to be resolved through policy, regulation, or administrative action; or

(3) Issues beyond the scope of this plan amendment process.

The BLM will provide an explanation in the Programmatic EIS as to why we placed an issue in category two or three.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7, 43 CFR 1610.2.

Mike Nedd,
Assistant Director, Minerals, Realty, and Resource Protection.

[FR Doc. 2011-9120 Filed 4-13-11; 8:45 am]

BILLING CODE P